TENNESSEE VALLEY AUTHORITY

Sunshine Act Meeting

Agency Holding the Meeting: Tennessee Valley Authority (Meeting No. 1526).

Time and Date: 9 a.m. (EST), January 24, 2001.

Place: TVA West Tower Auditorium, 400 West Summit Hill Drive, Knoxville, Tennessee.

Status: Open.

Agenda: Approval of minutes of meeting held on November 15, 2000.

New Business:

C—Energy

C1. Revision of TVA Policy and Principles on the Environment.

C2. TVA Business Practice entitled “The Sale or Use of Coal Combustion By-Products and Related Services.”

C3. Supplement to Contract No. 95P6F-133445 with Day & Zimmermann NPS, Inc., for modification and supplemental maintenance work at TVA's western region fossil facilities.

C4. Contract with KVB-Enertec for selective catalytic reduction flue gas analyzer systems at Allen, Bull Run, Colbert, Cumberland, Kingston, Paradise, and Widows Creek Fossil Plants.

C5. Supplement to Contract No. 00PPW-264807 with Foster Wheeler Energy Corporation for the design and supply of superheater and reheater elements for Widows Creek Fossil Plant Unit 7 and other TVA Fossil Plants.

E—Real Property Transactions

E1. Grant of a permanent easement to the City of Decatur, Alabama, for a sewerline and wastewater treatment plant affecting approximately 2.2 acres of land on Wheeler Reservoir in Morgan County, Alabama, Tract No. XTWR-113SP.

E2. Deed modification affecting approximately 9.3 acres of former TVA land located at Nitrate Plant No. 1 in Colbert County, Alabama, Tract No. XNPT-32, to allow the City of Sheffield to lease the property for the production of movies and for film-making education.

F—Other

F1. Designation of Maureen H. Dunn as Secretary and Clifford L. Beach, Jr., and James E. Norris as Assistant Secretaries of TVA.

F2. Approval to file condemnation cases to acquire the right to remove and dispose of trees that could endanger transmission lines and the temporary right to enter upon land to survey, appraise, and preform title investigations for an easement and right-of-way. The affected transmission lines are Kentucky Dam-Nashville Tap to Ashland City in Cheatham County, Tennessee, and Hanceville-Bremen in Cullman County, Alabama.

Information Items

1. Approval of an Amendment to the Trust Agreement between the Board of Directors of the TVA Retirement System and Fidelity Management Trust Company.

2. Approval of WRH Partners II as a new investment manager for the TVA Retirement System and approval of the Investment Management Agreement between the TVA Retirement System and the new investment manager.

3. Appointment of Karl Dudley, General Manager, Pickwick Electric Cooperative, as a member of Regional Resource Stewardship Council.

4. Approval of the modification of Contract No. P98P01-203507 with Thunder Basin Coal Company, LLC, for coal supply to Allen, Gallatin, Paradise, Johnsonville, Colbert, and Shawnee Fossil Plants.

5. Approval to file a condemnation case to acquire a right-of-way easement for the Weaver-Young Cane transmission line in Union County, Georgia.

6. Approval of a deed modification, at the request of the Tennessee Wildlife Resources Agency, affecting approximately 6.1 acres of land on Fort Loudoun Reservoir in Blount County, Tennessee, Tract No. XTFL-13.

7. Approval of recommendations resulting from the 65th Annual Wage Conference 2000—Construction Project Agreement (Hourly) Wage Rates.

8. Approval of recommendations resulting from the 65th Annual Wage Conference, 2000—Wage Rates of Annual Trades and Labor Employees and Teamsters.

9. Approval of negotiated revisions to General Agreement and related Memorandums of Understanding covering Annual Trades and Labor Employees.

For more information: Please call TVA Public Relations at (865) 632-6000, Knoxville, Tennessee. Information is also available at TVA's Washington Office (202) 898-2999. People who plan to attend the meeting and have special needs should call (865) 632-6000.

Dated: January 17, 2001.
Charles L. Young,
Assistant General Counsel, and Assistant Secretary.

[FR Doc. 01-1993 Filed 1-18-01; 12:52 am]

BILLING CODE 8120-08-M